DEPARTMENT OF AGRICULTURE

Forest Service

Nebraska National Forest, Nebraska & South Dakota Black-Tailed Prairie Dog (Cynomys ludovicianus) Management on the Nebraska National Forest and Associated Units

AGENCY: Forest Service, USDA.

ACTION: Revised notice of intent to prepare an environmental impact statement.

SUMMARY: The USDA Forest Service published a Notice of Intent in the Federal Register of September 29, 2006, in FR Volume 71, No. 189, on pages 57460-57461, concerning request for comments on a Supplement to the Final Environmental Impact Statement for the 2002 Nebraska National Forest Revised Land and Resource Management Plan for black-tailed prairie dog (Cynomys ludovicianus) management on the Nebraska National Forest and associated units. Instead of supplementing the Final Enviromental Impact Statement for the 2002 Nebraska National Forest Revised Land and Resource Management Plan, the Agency will prepare an Environmental Impact Statement (EIS) for black-tailed prairie dog (Cynomys ludovicianus) management on the Nebraska National Forest and associated units. This EIS will tier to and not supplement the Final EIS for the 2002 Revised Nebraska National Forest Land and Resource Management Plan.

The proposed action is to amend current management direction in the Nebraska National Forest Land and Resource Management Plan to meet various multiple use objectives by: (1) Specifing the desired range of acres of prairie dog colonies that would be provided on the Nebraska National Forest and associated units; and (2) to be able to use toxicants if the acreage exceeds the desired range and for multiple use objectives. The proposed action would amend Chapter 1, Section H, Standard #1 in the Nebraska National Forest Land and Resource Management Plan, which allows for limited use of rodenticdes in the interior of the Forest. The proposed action would also authorize the site-specific control of prairie dogs forest-wide, including the use of rodenticides, when management thresholds are exceeded for geographic areas. Future prairie dog control would occur based on management thresholds without further NEPA analysis.

Public Comments

Public comment was received in response to the September 29, 2006 Notice of Intent. The comments have been analyzed and distilled into a comprehensive set of analysis issues. Since the proposed action and purpose and need for the project have not changed, those who have already commented do not need to resubmit their comments. However, comments will continue to be accepted, but will be most useful if received by March 16, 2007.

FOR FURTHER INFORMATION CONTACT: Mike McNeill, Team Leader (605) 745-4107.

Dated: February 20, 2007.
Donald J. Bright,
Forest Supervisor, Nebraska National Forest.

[FR Doc. E7-3469 Filed 2-27-07; 8:45 am]

BILLING CODE 3410-11-P